DEPARTMENT OF THE INTERIOR

Bureau of Land Management

Notice of Realty Actions, Plumas County, California

ACTION: Termination of Recreation and Public Purposes Classification (CACA-23622) and Notice of Noncompetitive Sale of Public Land in Plumas County, California; (CACA-23622-02).

SUMMARY: This notice effects public lands in Plumas County, California within T.22N., R.14E., Sections 23 and 26, M.D.M. Classification under the Recreation and Public Purposes Act will be terminated and public lands will be offered for noncompetitive sale to Portola Cemetery District.

SUPPLEMENTARY INFORMATION: On July 27, 1989, public lands in Plumas County, California, described below were segregated and classified as suitable for sale to the Portola Cemetery District pursuant to the Recreation and Public Purposes act (R&PP: T.22N., R.14E., Section 23, SW¼SE¼SW¼SW¼, SE¼SW¼SW¼SW¼; Section 26, NW¼NE¼NW¼NW¼, NE¼NW¼NW¼NW¼, M.D.M., containing 10 acres more or less. The R&PP classification is hereby terminated to allow other uses consistent with planning and current land classification. The lands are opened only to disposal by noncompetitive sale to Portola Cemetery District pursuant to section 203 of the Federal Land Policy and Management Act of 1976 (43 U.S.C. 1713). Lands described as T.22N., R.14E., Tract 37, Sections 23 and section 26, M.D.M., containing .65 acre more or less have been examined and found suitable for direct sale at not less than the estimated fair market value of $500. The land will not be offered for sale until at least October 10, 2000. The land described is hereby segregated from appropriation under the public land laws, including the mining laws, pending disposition of this action or 270 days from the date of publication of this notice, whichever occurs first. This land is not essential to any bureau of Land Management program and no resource needed by the public will be lost through the transfer to private ownership. Conveyance is consistent with current BLM land use planning and is in the public interest.

The land is being offered for direct sale to the Portola Cemetery District for the continued operation of a cemetery. It has been determined that the subject parcel contains no known mineral values; therefore mineral interests may be conveyed simultaneously. Acceptance of the direct sale offer will qualify the purchaser to make application for conveyance of those mineral interests pursuant to the Federal Land Policy and Management Act (FLPMA) of 1976, Section 209 entitled Reservation and Conveyance of Minerals.

The patent, when issued, may contain certain reservations to the United States. Detailed information concerning these reservations, as well as specific conditions of sale, are available for review at the Eagle Lake Field Office, 2950 Riverside Drive, Susanville, CA 96130.

For a period of 45 days from the date of publication of this notice in the Federal Register, interested persons may submit comments regarding the proposed conveyance of the lands to the Field Manager at the above address. Any adverse comments will be reviewed by the State Director. In the absence of any adverse comments, the lands will be offered for sale to Portola Cemetery District.

Dated: August 1, 2000.
Linda D. Hansen,
Field Manager.

[FR Doc. 00-19977 Filed 8-7-00; 8:45 am]

BILLING CODE 4310-40-P